ENVIRONMENTAL PROTECTION AGENCY

[FRL-9956-43-OARM]

Senior Executive Service Performance Review Board; Membership

AGENCY: U.S. Environmental Protection Agency.

ACTION: Notice.

SUMMARY: Notice is hereby given of the membership of the U.S. Environmental Protection Agency Performance Review Board for 2016.

FOR FURTHER INFORMATION CONTACT: Karen D. Higginbotham, Director, Executive Resources Division, 3606A, Office of Human Resources, Office of Administration and Resources Management, U.S. Environmental Protection Agency, 1200 Pennsylvania Avenue NW., Washington, DC 20460, (202) 564-7287.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2016 EPA Performance Review Board are:

John Armstead, Director, Land and Chemicals Division, Region 3

Beverly Banister, Director, Air, Pesticides and Toxics Management Division, Region 4

Sheryl Bilbrey, Director, Office of Environmental Cleanup, Region 10

Jerry Blancato, Director, Office of Science Information Management, Office of Research and Development

David Bloom, Deputy Chief Financial Officer, Office of the Chief Financial Officer

Rebecca Clark, Deputy Director, Office of Ground Water and Drinking Water, Office of Water

Sam Coleman, Deputy Regional Administrator, Region 6

Rafael DeLeon, Deputy Director, Office of Site Remediation Enforcement, Office of Enforcement and Compliance Assurance

Lilian Dorka (Ex-Officio), Acting Director, Office of Civil Rights, Office of the Administrator

Alfred P. Dufour, Senior Research Microbiologist, Office of Research and Development

John Filippelli, Director, Clean Air and Sustainability Division, Region 2

Karen Flournoy, Director, Water, Wetlands and Pesticides Division, Region 7

Lynn Flowers, Associate Director for Health, National Center for Environmental Assessment, Office of Research and Development

Linda Gray (Ex-Officio), Director, Office of Human Resources, Office of Administration and Resources Management

Peter Grevatt, Director, Office of Ground Water and Drinking Water, Office of Water

Christopher Grundler, Director, Office of Transportation and Air Quality, Office of Air and Radiation

Margaret Guerriero, Director, Land and Chemicals Division, Region 5

Karen D. Higginbotham (Ex-Officio), Director, Executive Resources Division, Office of Human Resources, Office of Administration and Resources Management

Randy Hill, Deputy Assistant Administrator, Office of International and Tribal Affairs

Richard Keigwin, Deputy Director, Office of Pesticide Programs, Office of Chemical Safety and Pollution Prevention

Michael Kenyon, Assistant Regional Administrator for Administration and Resources Management, Region 1

Kenneth Lapierre, Assistant Regional Administrator for Policy and Management, Region 4

David Lloyd, Director, Office of Brownfields and Land Revitalization, Office of Land and Emergency Management

James McDonald, Assistant Regional Administrator for Management, Region 6

Robert McKinney, Senior Agency Information Security Officer, Office of Environmental Information

Oscar Morales, Associate Assistant Administrator for Management, Office of Chemical Safety and Pollution Prevention

Rebecca Moser, Director, Office of Enterprise Information Programs, Office of Environmental Information

Elise Packard, Associate General Counsel, Civil Rights and Finance Law, Office of General Counsel

Kimberly Patrick, Director, Office of Acquisition Management, Office of Administration and Resources Management

Michelle Pirzadeh, Deputy Regional Administrator, Region 10

Denise Polk, Director, Office of Grants and Debarment, Office of Administration and Resources Management

John Reeder, Deputy Chief of Staff, Office of the Administrator

Christopher Robbins, Acting Deputy Assistant Administrator, Office of Research and Development

John Showman, Acting Deputy Assistant Administrator, Office of Administration and Resources Management

Carol Ann Siciliano, Associate General Counsel, Cross—Cutting Issues, Office of General Counsel

Stefan Silzer, Controller, Office of the Chief Financial Officer

Nigel Simon, Director, Office of Program Management, Office of Land and Emergency Management

Walker Smith, Director, Office of Global Affairs and Policy, Office of International and Tribal Affairs

Allyn Stern, Regional Counsel, Region 10, Office of Enforcement and Compliance Assurance

Alexis Strauss, Acting Regional Administrator, Region 9

Susan Studlien, Director, Office of Environmental Stewardship, Region 1

Debra Thomas, Deputy Regional Administrator, Region 8

Donna Vizian, (Ex-Officio), Principal Deputy Assistant Administrator, Office of Administration and Resources Management

Jeffery Wells, Deputy Director, Office of Customer Advocacy, Policy and Portfolio Management, Office of Environmental Information

Pai-Yei Whung, Senior Research Scientist, Office of Research and Development

Anna Wood, Director, Air Quality Policy Division, Office of Air and Radiation

Christopher Zarba, Director, Science Advisory Board Staff Office, Office of the Administrator

Dated: November 29, 2016.
Donna J. Vizian,
Principal Deputy Assistant Administrator, Office of Administration and Resources Management.

[FR Doc. 2016-29743 Filed 12-9-16; 8:45 am]

BILLING CODE 6560-50-P